DEPARTMENT OF HEALTH AND HUMAN SERVICES

Centers for Disease Control and Prevention

[Request for Application (RFA) AA211]

Support for Programs Designed To Reduce the Impact of HIV in Southern Sudan, Under the President's Emergency Plan for AIDS Relief; Notice of Availability of Funds—Amendment

A notice announcing the availability of Fiscal Year (FY) 2006 funds for a cooperative agreement for Support for Programs Designed to Reduce the Impact of HIV in Southern Sudan under the President's Emergency Plan for AIDS Relief, was published in the Federal Register, September 7, 2005, Volume 70, Number 172, pages 53216-53224. This notice is amended as follows:

• Page 53216, Application deadline: delete September 29, 2005 and replace with October 17, 2005

• Page 53221, Application deadline date: delete September 29, 2005 and replace with October 17, 2005

Dated: September 26, 2005.
William P. Nichols,
Director, Procurement and Grants Office, Centers for Disease Control and Prevention, U.S. Department of Health and Human Services.

[FR Doc. 05-19691 Filed 9-30-05; 8:45 am]

BILLING CODE 4163-18-P